DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of January 22, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
New Castle County, Delaware and Incorporated Areas
Docket No.: FEMA-B-1701 and FEMA-B-1849
City of New Castle | Public Works Building, 900 Wilmington Road, New Castle, DE 19720.
City of Newark | Planning and Development Department, 220 South Main Street, Newark, DE 19711.
City of Wilmington | Department of Licenses and Inspections, 800 North French Street, Wilmington, DE 19801.
Town of Elsmere | Town Hall, 11 Poplar Avenue, Elsmere, DE 19805.
Town of Middletown | Town Hall, 19 West Green Street, Middletown, DE 19709.
Town of Newport | Administrative Office, 226 North James Street, Newport, DE 19804.
Unincorporated Areas of New Castle County | New Castle County Land Use Department, 87 Reads Way, New Castle, DE 19720.
Village of Arden | Buzz Ware Village Center, 2119 The Highway, Arden, DE 19810.
Village of Ardentown | New Castle County Land Use Department, 87 Reads Way, New Castle, DE 19720.
Butler County, Kansas and Incorporated Areas
Docket No.: FEMA-B-1843
City of Augusta | City Hall, 113 East 6th Avenue, Augusta, KS 67010.
City of El Dorado | Engineering Building, 216 North Vine Street, El Dorado, KS 67042.
Unincorporated Areas of Butler County | Butler County Courthouse, 205 West Central Avenue, El Dorado, KS 67042.
Nodaway County, Missouri and Incorporated Areas
Docket No.: FEMA-B-1851
City of Barnard | City Hall, 504 4th Street, Barnard, MO 64423.
City of Burlington Junction | City Hall, 122 North Clarinda Street, Burlington Junction, MO 64428.
City of Conception Junction | Nodaway County Administration Center, 403 North Market Street, Maryville, MO 64468.
City of Elmo | City Hall, 201 Main Street, Elmo, MO 64445.
City of Hopkins | City Hall, 124 North 3rd Street, Hopkins, MO 64461.
City of Maryville | City Hall, 415 North Market Street, Maryville, MO 64468.
City of Parnell | Nodaway County Administration Center, 403 North Market Street, Maryville, MO 64468.
City of Skidmore | City Hall, 108 South Walnut Street, Skidmore, MO 64487.
Unincorporated Areas of Nodaway County | Nodaway County Administration Center, 403 North Market Street, Maryville, MO 64468.
Village of Arkoe | Nodaway County Administration Center, 403 North Market Street, Maryville, MO 64468.
Village of Clyde | Nodaway County Administration Center, 403 North Market Street, Maryville, MO 64468.
Scotland County, Missouri and Incorporated Areas
Docket No.: FEMA-B-1853
City of Memphis | City Hall, 125 West Jefferson Street, Memphis, MO 63555.
City of South Gorin | Scotland County Courthouse, 117 South Market Street, Memphis, MO 63555.
Unincorporated Areas of Scotland County | Scotland County Courthouse, 117 South Market Street, Memphis, MO 63555.
Village of Arbela | Scotland County Courthouse, 117 South Market Street, Memphis, MO 63555.
Shelby County, Missouri and Incorporated Areas
Docket No.: FEMA-B-1851
City of Shelbina | City Hall, 116 East Walnut Street, Shelbina, MO 63468.
City of Shelbyville | City Hall, 106 South Washington Street, Shelbyville, MO 63469.
Unincorporated Areas of Shelby County | Shelby County Courthouse, 100 East Main Street, Shelbyville, MO 63469.
Village of Bethel | City Office, 120 Maple Street, Bethel, MO 63434.
Village of Leonard | Shelby County Courthouse, 100 East Main Street, Shelbyville, MO 63469.
Wright County, Missouri and Incorporated Areas
Docket No.: FEMA-B-1853
City of Hartville | City Hall, 200 South Main Street, Hartville, MO 65667.
City of Mansfield | City Hall, 122 North Business 60, Mansfield, MO 65704.
City of Mountain Grove | City Hall, 100 East State Street, Mountain Grove, MO 65711.
Unincorporated Areas of Wright County | Wright County Courthouse, 125 Court Square, Hartville, MO 65667.
Gonzales County, Texas and Incorporated Areas
Docket No.: FEMA-B-1757
City of Gonzales | City Hall, 820 St. Joseph Street, Gonzales, TX 78629.
Unincorporated Areas of Gonzales County | Gonzales County Courthouse, 414 St. Joseph Street, Suite 200, Gonzales, TX 78629.
Travis County, Texas and Incorporated Areas
Docket No.: FEMA-B-1751
City of Austin | Watershed Engineering Division, 505 Barton Springs Road, 12th Floor, Austin, TX 78704.
City of Bee Cave | City Hall, 4000 Galleria Parkway, Bee Cave, TX 78738.
City of Jonestown | City Hall, 18649 FM 1431, Suite 4A, Jonestown, TX 78645.
City of Lago Vista | City Hall, 5803 Thunderbird Street, Lago Vista, TX 78645.
City of Lakeway | City Hall, 1102 Lohmans Crossing Road, Lakeway, TX 78734.
City of Leander | City Hall, 105 North Brushy Street, Leander, TX 78641.
City of West Lake Hills | City Hall, 911 Westlake Drive, West Lake Hills, TX 78746.
Unincorporated Areas of Travis County | Travis County Transportation and Natural Resources, 700 Lavaca Street, 5th Floor, Austin, TX 78701.
Village of The Hills | Administrative Offices, 102 Trophy Drive, The Hills, TX 78738.

[FR Doc. 2019-20479 Filed 9-20-19; 8:45 am]

BILLING CODE 9110-12-P